DEPARTMENT OF COMMERCE

National Oceanic and Atmospheric Administration

50 CFR Part 223

[Docket No. 050323081-6079-02; I.D. 031505C]

RIN 0648-AT02

Endangered and Threatened Wildlife and Plants: Threatened Status for Southern Distinct Population Segment of North American Green Sturgeon

Correction

In rule document 06-3326 beginning on page 17757 in the issue of Friday, April 7, 2006, make the following correction:

On page 17757, in the first column, under the DATES heading, in the first line, “June 6, 2006” should read “July 6, 2006”.

[FR Doc. C6-3326 Filed 4-12-06; 8:45 am]

BILLING CODE 1505-01-D